DEPARTMENT OF ENERGY

Federal Energy Regulatory Commission

Combined Notice of Filings #1

March 1, 2010.

Take notice that the Commission received the following electric rate filings:

Docket Numbers: ER10-226-002.

Applicants: Clean Currents, LLC.

Description: Change in Status of Clean Currents, L.L.C.

Filed Date: 02/26/2010.

Accession Number: 20100226-5058.

Comment Date: 5 p.m. Eastern Time on Friday, March 19, 2010.

Docket Numbers: ER10-783-001.

Applicants: Carolina Power & Light Company.

Description: Carolina Power & Light Company submits Substitute Original Sheet 78 et al. to its FERC Electric Tariff, Fourth Revised Volume 3—Service Agreement 315 to be effective 3/1/10.

Filed Date: 02/26/2010.

Accession Number: 20100301-0063.

Comment Date: 5 p.m. Eastern Time on Friday, March 19, 2010.

Docket Numbers: ER10-795-000.

Applicants: Southwest Power Pool, Inc.

Description: Southwest Power Pool, Inc request for waiver of tariff provisions and expedited treatment.

Filed Date: 02/25/2010.

Accession Number: 20100225-0205.

Comment Date: 5 p.m. Eastern Time on Thursday, March 18, 2010.

Docket Numbers: ER10-796-000.

Applicants: Southern California Edison Company.

Description: Southern California Edison Company submits Large Generator Interconnection Agreement among SES Solar One, LLC et al.

Filed Date: 02/25/2010.

Accession Number: 20100225-0206.

Comment Date: 5 p.m. Eastern Time on Thursday, March 18, 2010.

Docket Numbers: ER10-797-000.

Applicants: PacifiCorp.

Description: PacifiCorp submits Small Generator Interconnection Agreement with the United States Department of Interior Bureau of Reclamation designated as Service Agreement 591, Seventh Revised Volume 11 etc.

Filed Date: 02/25/2010.

Accession Number: 20100226-0305.

Comment Date: 5 p.m. Eastern Time on Thursday, March 18, 2010.

Docket Numbers: ER10-798-000.

Applicants: Southwest Power Pool, Inc.

Description: Southwest Power Pool submits Original Sheet 974AU et al. to its FERC Electric Tariff, Fifth Revised Volume 1, to be effective February 1, 2010.

Filed Date: 02/25/2010.

Accession Number: 20100226-0303.

Comment Date: 5 p.m. Eastern Time on Thursday, March 18, 2010.

Docket Numbers: ER10-799-000.

Applicants: New England Power Pool.

Description: New England Power Pool submits a counterpart signature page of their Agreement, etc.

Filed Date: 02/25/2010.

Accession Number: 20100226-0304.

Comment Date: 5 p.m. Eastern Time on Thursday, March 18, 2010.

Docket Numbers: ER10-800-000.

Applicants: New York Independent System Operator Inc.

Description: New York Independent System Operator, Inc submits proposed revisions to its Market Administration and Control Area Services Tariff to revise the stream turbine testing procedures etc.

Filed Date: 02/25/2010.

Accession Number: 20100226-0031.

Comment Date: 5 p.m. Eastern Time on Thursday, March 18, 2010.

Docket Numbers: ER10-801-000.

Applicants: Cleco Power LLC.

Description: Cleco Power LLC submits Original Sheet 1 et al. to its FERC Electic Tariff, Fourth Revised Volume 1 to be effective 3/1/10.

Filed Date: 02/26/2010.

Accession Number: 20100226-0034.

Comment Date: 5 p.m. Eastern Time on Friday, March 19, 2010.

Docket Numbers: ER10-803-000.

Applicants: Southern California Edison Company.

Description: Southern California Edison Company submits revised rate sheet reflecting cancellation of a letter agreement with Blythe Energy LLC, Rate Schedule FERC 440.

Filed Date: 02/26/2010.

Accession Number: 20100301-0035.

Comment Date: 5 p.m. Eastern Time on Friday, March 19, 2010.

Docket Numbers: ER10-804-000.

Applicants: Southern California Edison Company.

Description: Southern California Edison Company submits Grand Crossing Development Wholesale Distribution Load Interconnection Facilities Agreement.

Filed Date: 02/26/2010.

Accession Number: 20100301-0036.

Comment Date: 5 p.m. Eastern Time on Friday, March 19, 2010.

Docket Numbers: ER10-805-000.

Applicants: Southern California Edison Company.

Description: Southern California Edison Company submits Standard Large Generator Interconnection Agreement etc.

Filed Date: 02/26/2010.

Accession Number: 20100301-0037.

Comment Date: 5 p.m. Eastern Time on Friday, March 19, 2010.

Docket Numbers: ER10-806-000.

Applicants: North American Energy Credit and Clearing—Contract Merchant, LLC.

Description: North American Energy Credit and Clearing—Contract Merchant, LLC submits Notice of Cancellation of its market based-rate tariff.

Filed Date: 02/26/2010.

Accession Number: 20100301-0038.

Comment Date: 5 p.m. Eastern Time on Friday, March 19, 2010.

Docket Numbers: ER10-807-000.

Applicants: North American Energy Credit and Clearing-Delivery LLC.

Description: North American Energy Credit and Clearing-Delivery LLC submits Notice of Cancellation of its market based-rate tariff.

Filed Date: 02/26/2010.

Accession Number: 20100301-0039.

Comment Date: 5 p.m. Eastern Time on Friday, March 19, 2010.

Docket Numbers: ER10-808-000.

Applicants: North American Energy Credit and Clearing—Finance LLC.

Description: North American Energy Credit and Clearing—Finance LLC submits Notice of Cancellation of their market based-rate tariff.

Filed Date: 02/26/2010.

Accession Number: 20100301-0040.

Comment Date: 5 p.m. Eastern Time on Friday, March 19, 2010.

Docket Numbers: ER10-809-000.

Applicants: Pacific Gas and Electric Company.

Description: Pacific Gas and Electric Company submits the End Use Customer Refund Adjustment compliance filing and a proposed rate change to its FERC Electric Tariff, Sixth Revised Volume 5.

Filed Date: 02/26/2010.

Accession Number: 20100301-0041.

Comment Date: 5 p.m. Eastern Time on Friday, March 19, 2010.

Docket Numbers: ER10-810-000.

Applicants: Midwest Independent Transmission System Operator Inc.

Description: Midwest Independent Transmission System Operator, Inc. submits proposed amendments to Section 38.2.5 of their Open Access Transmission, Energy and Operating Reserve Markets Tariff etc.

Filed Date: 02/26/2010.

Accession Number: 20100301-0042.

Comment Date: 5 p.m. Eastern Time on Friday, March 19, 2010.

Docket Numbers: ER10-811-000.

Applicants: New York Independent System Operator, Inc.

Description: New York Independent System Operator, Inc. submits revisions to its Open Access Transmission Tariff and Market Administration and Control Area Services Tariff.

Filed Date: 02/26/2010.

Accession Number: 20100301-0043.

Comment Date: 5 p.m. Eastern Time on Friday, March 19, 2010.

Take notice that the Commission received the following public utility holding company filings:

Docket Numbers: PH10-9-000.

Applicants: International Power America, Inc.

Description: International Power America, Inc.'s Notice of Change in Facts.

Filed Date: 02/02/2010.

Accession Number: 20100202-5151.

Comment Date: 5 p.m. Eastern Time on Friday, March 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-5059 Filed 3-9-10; 8:45 am]

BILLING CODE 6717-01-P